Title 3—

The President

Proclamation 8066 of October 11, 2006

General Pulaski Memorial Day, 2006

By the President of the United States of America

A Proclamation

On General Pulaski Memorial Day, we remember Casimir Pulaski, a Polish-born hero of the American Revolution who fought and died for the freedom and independence our country enjoys today.

General Casimir Pulaski entered into a campaign against tyranny in Poland in 1768, bravely fighting for the freedom of his native land. This patriotic spirit and thirst for freedom remained with Pulaski throughout his life and influenced his success in the American Revolutionary War. After meeting Benjamin Franklin in Paris, Pulaski traveled to America to join forces with General George Washington and assist in the fight for American independence. He was quickly commissioned as a Brigadier General and demonstrated such skill on the battlefield that he became known as the “Father of the American Cavalry.” In 1779, General Pulaski was mortally wounded at the siege of Savannah. By giving his life for our country, General Pulaski inspired many Americans and helped ensure a future of freedom for our citizens.

Through his service and dedication to liberty, General Pulaski demonstrated the strong will and patriotism that made our freedom possible, and the ties between the United States and Poland are strengthened by these common values. On General Pulaski Memorial Day, we honor the courage and sacrifice of this great hero of the American Revolution, recognize the many contributions of Polish Americans to our country, and celebrate the lasting friendship between our two great nations.

NOW, THEREFORE, I, GEORGE W. BUSH, President of the United States of America, by virtue of the authority vested in me by the Constitution and laws of the United States, do hereby proclaim October 11, 2006, as General Pulaski Memorial Day. I encourage Americans to commemorate this occasion with appropriate programs and activities honoring General Casimir Pulaski and all those who defend our freedom.

IN WITNESS WHEREOF, I have hereunto set my hand this eleventh day of October, in the year of our Lord two thousand six, and of the Independence of the United States of America the two hundred and thirty-first.

[FR Doc. 06-8714

Filed 10-12-06; 8:46 am]

Billing code 3195-01-P